DEPARTMENT OF TRANSPORTATION

Federal Aviation Administration

Notice Before Waiver With Respect to Land at Leesburg Executive Airport, Leesburg, VA

AGENCY: Federal Aviation Administration (FAA), DOT.

ACTION: Notice of intent of waiver with respect to land.

SUMMARY: The FAA is publishing notice of proposed release from aeronautical use of approximately 1.39 acres of land at the Leesburg Executive Airport, Leesburg, Virginia to the Town of Leesburg. The release will facilitate the construction of the Battlefield Parkway that will improve access to the airport and will permit the construction of a standard runway safety area for Runway 17. There are not impacts to the Airport and the land is not needed for airport development as shown on the Airport Layout Plan.

DATES: Comments must be received on or before May 7, 2007.

ADDRESSES: Comments on this application may be mailed or delivered in triplicate to the FAA at the following address: Terry J. Page, Manager, FAA Washington Airports District Office, 23723 Air Freight Lane, Suite 210, Dulles, VA 20166.

In addition, one copy of any comments submitted to the FAA must be mailed or delivered to Mr. Timothy B. Deike, Director Leesburg Executive Airport, at the following address: Mr. Timothy B. Deike, Director, Leesburg Executive Airport, 1001 Sycolin Road, SE., Leesburg, Virginia 20175.

FOR FURTHER INFORMATION CONTACT: Mr. Terry Page, Manager, Washington Airports District Office, 23723 Air Freight Lane, Suite 210, Dulles, VA 20166; telephone (703) 661-1354, fax (703) 661-1370, e-mail Terry.Page@faa.gov.

SUPPLEMENTARY INFORMATION: On April 5, 2000, new authorizing legislation became effective. That bill, the Wendell H. Ford Aviation investment and Reform Act for the 21st Century, Public Law 10-181 (Apr. 5, 2000; 114 Stat. 61) (AIR 21) requires that a 30 day public notice must be provided before the Secretary may waive any condition imposed on an interest in surplus property.

Dated: Issued in Chantilly, Virginia on March 14, 2007.
Terry J. Page,
Manager, Washington Airports District Office, Eastern Region.

[FR Doc. 07-1663 Filed 4-4-07; 8:45 am]

BILLING CODE 4910-13-M